DEPARTMENT OF LABOR

Employment and Training Administration

[TA-W-56,480]

Tyco Electronics, Tyco Printed Circuits Group Now Known as TTM Technologies, Inc., Dallas, OR; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 17, 2005, applicable to workers of Tyco Electronics, Tyco Printed Circuits Group, Dallas, Oregon. The notice was published in the Federal Register on March 9, 2005 (70 FR 11704).

At the request of the State agency, the Department reviewed the certification for workers of the subject firm. The workers are engaged in the production of printed circuit boards.

New information shows that in October 2006, TTM Technologies, Inc. purchased the Tyco Printed Circuit Group of Tyco Electronics and is now known as TTM Technologies. Workers separated from employment at the subject firm had their wages reported under a separate unemployment insurance (UI) tax account for TTM Technologies, Inc.

Accordingly, the Department is amending the certification to properly reflect this matter.

The intent of the Department's certification is to include all workers of Tyco Electronics, Tyco Printed Circuits Group, now known as TTM Technologies who were adversely affected by increased customer imports.

The amended notice applicable to TA-W-56,480 is hereby issued as follows:

All workers of Tyco Electronics, Tyco Printed Circuits Group, now known as TTM Technologies, Dallas, Oregon, who became totally or partially separated from employment on or after February 1, 2004, through February 17, 2007, are eligible to apply for adjustment assistance under Section 223 of the Trade Act of 1974, and are also eligible to apply for alternative trade adjustment assistance under Section 246 of the Trade Act of 1974.

Signed at Washington, DC this 23rd day of January 2007.
Elliott S. Kushner,
Certifying Officer, Division of Trade Adjustment Assistance.

[FR Doc. E7-1472 Filed 1-30-07; 8:45 am]

BILLING CODE 4510-30-P